COMMITTEE FOR PURCHASE FROM PEOPLE WHO ARE BLIND OR SEVERELY DISABLED.

Procurement List; Proposed Additions

AGENCY: Committee for Purchase From People Who Are Blind or Severely Disabled.

ACTION: Proposed additions to procurement list.

SUMMARY: The Committee is proposing to add to the Procurement List commodities and services to be furnished by nonprofit agencies employing persons who are blind or have other severe disabilities.

COMMENTS MUST BE RECEIVED ON OR BEFORE: November 5, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in this notice for each commodity or service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46—48c) in connection with the commodities and services proposed for addition to the Procurement List. Comments on this certification are invited. Commenters should identify the statement(s) underlying the certification on which they are providing additional information.

The following commodities and services are proposed for addition to Procurement List for production by the nonprofit agencies listed:

Commodities

Stapler

7520-00-240-5727

NPA: Occupations, Inc., Middletown, New York

Government Agency: GSA/Office Supplies and Paper Products Commodity Center

Shirt, Sleeping

8415-00-890-2101

8415-00-890-2102

8415-00-890-2103

8415-00-890-2099

NPA: BOST Human Development Services, Fort Smith, Arkansas

Government Agency: Defense Supply Center Philadelphia

Services

Mailroom Operation

Internal Revenue Service

San Patricio Office Center Building

#7 Tabonuco Street

Guaynabo, Puerto Rico

NPA: The Corporate Source, Inc., New York, New York

Government Agency: Internal Revenue Service.

Shipboard & Shore-Based Logistics

Worldwide Facilities for the Navy

Various other DOD Military Installations

(20% of the Government Requirement)

NPA: Association for Retarded Citizens of the Peninsula, Inc Hampton, Virginia

Government Agency: TRADOC Acquisition Center, Fort Eustis, Virginia.

Sheryl D. Kennerly,
Director, Information Management.

[FR Doc. 01-25042 Filed 10-4-01; 8:45 am]

BILLING CODE 6353-01-P